DEPARTMENT OF THE INTERIOR

Bureau of Land Management

[A2407-014-004-065516; #O2412-014-004-047181.1]

Invitation To Participate; Coal Exploration License Application UTUT106718347, Sanpete County, UT

AGENCY: Bureau of Land Management, Interior.

ACTION: Notice of invitation.

SUMMARY: Pursuant to the Mineral Leasing Act of 1920, as amended by the Federal Coal Leasing Amendments Act of 1976, and the Department of the Interior's regulations, all interested, qualified parties are hereby invited to participate with Canyon Fuel Company, LLC, on a pro rata cost-sharing basis, in the Muddy Creek Canyon program for the exploration of coal deposits owned by the United States of America in Sanpete County, Utah.

DATES: Canyon Fuel Company, LLC, published the notice of invitation to participate in this coal exploration license once each week for 2 consecutive weeks in the Sanpete Messenger in Manti, UT, dated March 27, 2025, and April 3, 2025. With this notice, any party seeking to participate in this exploration program is notified that they must send written notice to the Bureau of Land Management (BLM) and Canyon Fuel Company, LLC, as provided in the ADDRESSES section below, no later than August 11, 2025.

ADDRESSES: The BLM Utah State Office has the exploration license application and plan available for review, Monday through Friday, excluding Federal holidays (serialized under the number of UTUT106718347) in the public room at 440 West 200 South, Suite 500, Salt Lake City, UT 84101.

Any party seeking to participate in this exploration program must send written notice to Christina Price, BLM UT State Office, Deputy State Director Lands and Minerals, 440 West 200 South, Suite 500, Salt Lake City, UT 84101, and to Eric Beard, Canyon Fuel Company LLC., c/o Sufco Mine, 397 South 880 West, Salina, UT 84564.

FOR FURTHER INFORMATION CONTACT: Teresa Snyder by telephone (801) 539-4026, or by email, tsnyder@blm.gov. Individuals in the United States who are deaf, blind, hard of hearing, or have a speech disability may dial 711 (TTY, TDD, or TeleBraille) to access telecommunications relay services for contacting Ms. Snyder. Individuals outside the United States should use the relay services offered within their country to make international calls to the point-of-contact in the United States.

SUPPLEMENTARY INFORMATION: Coal exploration on lands not contained in a Federal coal lease is authorized under the Mineral Leasing Act of 1920, as amended. This provides the public with a methodology to gain additional geologic information of the coal underlying the exploration area to determine the viability of the coal resources. An exploration license is issued for no more than 2 years from the effective date of the license. If more time is necessary for exploration, a new license can be issued based on a new application. The BLM regulations at 43 CFR 3410.2 require publication in the Federal Register of an invitation for interested parties to participate in the coal exploration. The BLM may require a modification to the exploration plan to accommodate the legitimate exploration needs of persons seeking to participate. The proposed exploration area includes the following described lands in Sanpete County, Utah:

Salt Lake Meridian, UT

T. 20 S., R 5 E.,

secs. 8 and 9;

secs. 14 thru 18;

sec. 19, lots 1 thru 4, NE¼, and E½NW¼;

sec. 20, N½;

sec. 21, N½, SE¼, and E½SW¼;

secs. 22 thru 26;

sec. 27, N½.

The area described contains 9,276.25 acres according to the official plat of the survey of the said land on file with the BLM.

(Authority: 43 CFR 3410.2-1(c)(1))

Gerald Davis,
State Director, Acting.

[FR Doc. 2025-12984 Filed 7-10-25; 8:45 am]

BILLING CODE 4331-25-P